DEPARTMENT OF THE INTERIOR

Bureau of Reclamation

Lake Casitas Resource Management Plan (RMP), Ventura County, CA

AGENCY: Bureau of Reclamation, Interior.

ACTION: Notice of availability of the draft Environmental Impact Statement (EIS) and notice of public hearing.

SUMMARY: The Bureau of Reclamation (Reclamation), as the National Environmental Policy Act Federal lead agency, has made available for public review and comment the Lake Casitas draft EIS. The draft EIS describes and presents the environmental effects of the No-Action Alternative and two (2) Action Alternatives. A public hearing will be held to receive comments from individuals and organizations on the draft EIS.

DATES: Written comments on the draft EIS will be accepted on or before September 26, 2008.

A public hearing has been scheduled to receive oral or written comments regarding environmental effects. The hearing will be held from 6:30 p.m. to 9 p.m. on August 28, 2008 in Oak View, CA.

ADDRESSES: Send written comments on the draft EIS to Mr. Robert Epperson, Bureau of Reclamation, 1243 N Street, Fresno, CA 93721.

The public hearing will be held at Oak View Park and Resource Center, 555 Mahoney Avenue, Oak View, CA 93022.

Copies of the draft EIS may be requested from Mr. Robert Epperson, by writing to Bureau of Reclamation, 1243 N Street, Fresno, CA 93721; by calling 559-269-4518 (TDD 559-487-5933); or by e-mailing repperson@mp.usbr.gov.

The draft EIS is also accessible from the following Web site: http://www.usbr.gov/mp/casitas/docs/index.html. See SUPPLEMENTARY INFORMATION Section for locations where copies of the draft EIS are available for public review.

FOR FURTHER INFORMATION CONTACT: Mr. Robert Epperson, Bureau of Reclamation, at 559-269-4518 (TDD 559-487-5933) or repperson@mp.usbr.gov.

SUPPLEMENTARY INFORMATION: The draft EIS documents the direct, indirect, and cumulative effects to the physical, biological, and socioeconomic environment that may result from various resource management alternatives at Lake Casitas.

The Lake Casitas draft EIS evaluates the existing resource management at Lake Casitas. The project purpose consists of: (1) Protecting the water supply and water quality functions of Lake Casitas; (2) protecting and enhancing the natural and cultural resources in the Plan area, consistent with federal law and Reclamation policies; and (3) providing recreational opportunities and facilities consistent with the original Lake Casitas project purposes, Reclamation policies, and state water policies.

Lake Casitas is an existing reservoir formed by Casitas Dam, and located in Ventura County, California. The dam, which stores water for irrigation, municipal and industrial use within the Casitas Municipal Water District (CMWD), was completed in November 1958. Lake Casitas has a storage capacity of 254,000 acre-feet and delivers between 15,000 and 23,000 acre-feet each year. Although Reclamation owns Casitas Dam, the CMWD owns and operates the Plan Area pursuant to the 1956 agreement for the Ventura River Project. The 1956 agreement did not consider the current level of recreation activity the Plan Area now serves. Therefore, under a new long-term management agreement, the managing partner for the Open Space Lands may be different than the managing partner for the Park. The RMP will have a planning horizon of 25 years, and will begin when a new management agreement is reached between Reclamation and the managing partner(s).

The new plan would: (1) Ensure safe storage and timely delivery of high-quality water to users while enhancing natural resources and recreational opportunities; (2) protect natural resources while educating the public about the value of good stewardship; (3) provide recreational opportunities to meet the demands of a growing, diverse population; (4) ensure recreational diversity and the quality of the experience; and (5) provide the updated management considerations for establishing a new management agreement with the managing partner(s).

The draft EIS outlines the formulation and evaluation of alternatives designed to address these issues by representing the varied interests present at the Plan Area. Alternative 1 (No Action) would continue current management practices. Alternative 2 (Enhancement) would balance natural resource protection with recreation opportunities. Alternative 3 (Recreation Expansion) would emphasize expanded recreation opportunities.

The draft EIS has been developed within the authorities provided by Congress through the Reclamation Recreation Management Act of 1992 (Pub. L. 102-575, Title 28, U.S.C. 460L), Title IV of the Recreational Development Act of 1984 (Pub. L. 93-493), Reclamation Act, Federal Water Project Recreation Act, and other applicable Federal agency and U.S. Department of the Interior policies.

Copies of the draft EIS are available for public review at the following locations:

• Bureau of Reclamation, Mid-Pacific Region, Regional Library, 2800 Cottage Way, Sacramento, CA 95825.

• Bureau of Reclamation, South-Central California Area Office, 1243N Street, Fresno, CA 93721.

• Ojai Ranger District Station, 1190 East Ojai Avenue, Ojai, CA 93023.

• E.P. Foster Public Library, 651 Main Street, Ventura, CA 93001.

• Bureau of Reclamation, Denver Office Library, Building 67, Room 167, Denver Federal Center, 6th and Kipling, Denver, CO 80225.

• Natural Resources Library, U.S. Department of the Interior, 1849 C Street, NW., Main Interior Building, Washington, DC 20240-0001.

Public Hearings

A brief presentation, including a project overview, will open the public hearing. This will be followed by an open house during which individual concerns and questions will be addressed through interaction with the project team.

If special assistance is required at the public hearings, please contact Mr. Robert Epperson at 559-269-4518, TDD 559-487-5933, or by e-mailing repperson@mp.usbr.gov. Please notify Mr. Epperson as far in advance as possible to enable Reclamation to secure the needed services. If a request cannot be honored, the requestor will be notified.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: July 3, 2008.
John F. Davis,
Deputy Regional Director, Mid-Pacific Region.

[FR Doc. E8-17230 Filed 7-25-08; 8:45 am]

BILLING CODE 4310-MN-P